OFFICE OF THE UNITED STATES TRADE REPRESENTATIVE

Request for Comments on Additional Participants in Trade in Services Agreement

AGENCY: Office of the United States Trade Representative.

ACTION: Request for comments.

SUMMARY: On January 15, 2013, the United States Trade Representative notified Congress of the Administration's intention to enter into negotiations for a Trade in Services Agreement (TISA) with an initial group of 20 trading partners. The January 15 notification states that the group negotiating TISA “will expand as negotiations progress to include others who share our ambitious goals. This expansion will help further U.S. objectives for this agreement rather than change them.” The TISA negotiating countries agree that two additional trading partners, Paraguay and Liechtenstein, are willing and able to meet the high standards envisioned for the agreement. The negotiating countries have formed a consensus to allow these new participants to join the negotiations. The Office of the United States Trade Representative (USTR) is seeking public comments regarding particular priorities with respect to the participation of these two countries in the negotiations.

DATES: Written comments are due by October 4, 2013.

ADDRESSES: Submissions via on-line: http://www.regulations.gov. For alternatives to on-line submissions please contact Yvonne Jamison at (202) 395-3475.

FOR FURTHER INFORMATION CONTACT: For questions concerning requirements for written comments, please contact Yvonne Jamison at (202) 395-3475. All other questions regarding this notice should be directed to Thomas Fine at (202) 395-6875.

SUPPLEMENTARY INFORMATION: On January 15, 2013, Ambassador Kirk notified Congress of the Administration's intention to enter into the TISA negotiations. The TISA negotiations will be compatible with and will build upon the WTO General Agreement on Trade in Services, because TISA partners are aiming for a high-standard agreement, which, at some point in the future, may be brought under the auspices of the WTO Agreement.

The following 20 trading partners constituted the initial group of TISA participants: Australia, Canada, Chile, Chinese Taipei, Colombia, Costa Rica, European Union on behalf of its member states, Hong Kong China, Iceland, Israel, Japan, Korea, Mexico, New Zealand, Norway, Pakistan, Panama, Peru, Switzerland, and Turkey. USTR solicited public comments on the agreement through a notification published in the Federal Register on January 24, 2013 (Document number: 2013-01497). Comments received through that process may be reviewed at http://www.regulations.gov under docket number USTR-2013-0001.

With the addition of Paraguay and Liechtenstein to the negotiating group, the Chair of the interagency Trade Policy Staff Committee (TPSC) now invites interested persons to provide written comments that will assist USTR in assessing U.S. objectives with regard to their participation. The TPSC Chair invites comments on all relevant matters, and, in particular, with regard to the nature of any existing barriers to trade in services with these markets or issues affecting the supply of services to these markets through various modes of supply and technologies.

Public Comment: Requirements for Submissions

Persons submitting written comments must do so in English and must identify (on the first page of the submission) “Trade in Services Agreement: New Participants—Paraguay and Liechtenstein.” In order to be assured of consideration, comments should be submitted by October 4, 2013. In order to ensure the timely receipt and consideration of comments, USTR strongly encourages commenters to make on-line submissions, using the http://www.regulations.gov Web site. Comments should be submitted under the following docket: USTR-2013-0029. To find the docket, enter the docket number in the “Enter Keyword or ID” window at the http://www.regulations.gov home page and click “Search.” The site will provide a search-results page listing all documents associated with this docket. Find a reference to this notice by selecting “Notices” under “Document Type” on the search-results page, and click on the link entitled “Comment Now!” (For further information on using the http://www.regulations.gov Web site, please consult the resources provided on the Web site by clicking on the “Help” tab.)

The http://www.regulations.gov Web site provides the option of making submissions by filling in a “Type Comment” field, or by attaching a document using the “Upload File” field. USTR prefers submissions to be provided in an attached document. If a document is attached, it is sufficient to type “See attached” in the “Type Comment” field. USTR also prefers submissions in Microsoft Word (.doc) or Adobe Acrobat (.pdf). If the submission is in an application other than those two, please indicate the name of the application in the “Comments” field. For any comments submitted electronically containing business confidential information, the file name of the business confidential version should begin with the characters “BC.” Any page containing business confidential information must be clearly marked “BUSINESS CONFIDENTIAL” on the top of that page. Filers of submissions containing business confidential information must also submit a public version of their comments. The file name of the public version should begin with the character “P.” The “BC” and “P” should be followed by the name of the person or entity submitting the comments or reply comments. Filers submitting comments containing no business confidential information should name their file using the name of the person or entity submitting the comments. Please do not attach separate cover letters to electronic submissions; rather, include any information that might appear in a cover letter in the comments themselves. Similarly, to the extent possible, please include any exhibits, annexes, or other attachments in the same file as the submission itself, not as separate files.

USTR strongly urges submitters to file comments through http://www.regulations.gov, if at all possible. Any alternative arrangements must be made with Yvonne Jamison in advance of transmitting a comment. Ms. Jamison should be contacted at (202) 395-3475. General information concerning USTR is available at http://www.ustr.gov.

Public Inspection of Submissions

Comments will be placed in the docket and open to public inspection, except business confidential information. Comments may be viewed on the http:www.regulations.gov Web site by entering the relevant docket number in the search field on the home page.

Douglas Bell,
Chair, Trade Policy Staff Committee.

[FR Doc. 2013-21836 Filed 9-6-13; 8:45 am]

BILLING CODE 3290-F3-P